DEPARTMENT OF AGRICULTURE

Office of the Secretary

Privacy Act of 1974; Revision of Systems of Records

AGENCY: Office of the Secretary, USDA.

ACTION: Notice to amend Privacy Act system of records.

SUMMARY: Notice is hereby given that the United States Department of Agriculture (USDA) proposes to amend the Privacy Act system of records FCIC-7, entitled Accounts Receivable. The system of records is maintained by the Federal Crop Insurance Corporation (FCIC), a wholly-owned Government Corporation administered by the Risk Management Agency (RMA), an agency of USDA. The accounts receivable system of records is being revised to reflect changes in the administration and management of the Federal crop insurance program and to reflect more completely the types of information collected and maintained in this system of records.

EFFECTIVE DATE: This notice will be effective without further notice on January 6, 2003, unless modified by a subsequent notice to incorporate comments received from the public. Although the Privacy Act requires only that the portion of the system which describes the routine uses of the system be published for comment, USDA invites comment on all portions of this notice. Comments must be received by the contact person listed below on or before January 6, 2003.

FOR FURTHER INFORMATION CONTACT: Chief, Fiscal Operations Branch, Risk Management Agency, Federal Crop Insurance Corporation, 6501 Beacon Drive, Stop 0814, Kansas City, MO 64133-4676, telephone (816) 926-7033.

SUPPLEMENTARY INFORMATION: RMA is responsible for the administration of FCIC programs that affect agricultural producers in the United States. Programs are administered through the Washington D.C. Headquarters Office, Kansas City Office, ten regional offices and six compliance offices. At all of the above locations, RMA collects information about individuals and other legal entities; and retains, utilizes, and distributes information from the Privacy Act Systems of Records.

Information contained in the system will include name, address, tax identification numbers, and information relating to debt identification, such as policy number and basis for establishing debt. Debtors identified are indebted to FCIC or private insurance companies reinsured by FCIC. Information captured will be used to facilitate collection and tracking of delinquent debtors until such time as debts are satisfied. Revisions to the existing system of records are being made in the following areas:

The system location has been revised to reflect government reorganization and downsizing. In addition to the Kansas City Office, the system is now located in regional offices, and compliance offices of the Risk Management Agency. Addresses for these offices are now available from the Deputy Administrator, Insurance Services, Risk Management Agency, Room 6709, Mail Stop 0805, 1400 Independence Avenue, SW., Washington, DC 20250-0805. All references to addresses have been revised to reflect these changes. Categories of individuals have been expanded to include other legal entities. Categories of records have been revised and expanded to reflect more completely the types of information collected and maintained. This information includes individual identifying information, indebtedness information, and collection action by FCIC.

The current routine uses are revised as follows: Routine use number (1) has been revised to include agencies that regulate. Routine use number (2) has been revised to permit disclosure to any judicial or administrative tribunal if the record sought is relevant. Routine uses number (3) and number (5) have been revised to update the authority for reporting debts to credit reporting and collection agencies. Routine use number (7) has been deleted. Routine use number (8) has been combined with routine use number (3). Routine use number (9) has been renumbered as use number (7) and revised to refer to those programs conducting computer matching.

New routine uses have been added as follows: A new routine use number (8) permits referral of delinquent debts to the Department of Treasury, Financial Management Service, through participation in the Treasury Offset Program, and to other Federal agencies for administrative offset of eligible Federal payments, and for cross-servicing of debtor accounts. A new routine use number (9) allows delinquent debt to be disclosed to employers for wage garnishment. New routine use (10) permits information to be disclosed to private insurance companies reinsured by FCIC for tracking of delinquent debtors. New routine use number (11) permits information to be disclosed for research and analysis to identify potential areas of fraud, waste or abuse. A new routine use number (12) permits information to be disclosed for use in the administration, analysis, and evaluation of the Federal crop insurance program.

In compliance with Federal regulations, retention and disposal of records has been revised to include shredding of records supplied by other Federal agencies.

The source of information in these records has been expanded to include identification of delinquent debtors and debts certified to FCIC from private insurance companies reinsured by FCIC.

In conformance with 5 U.S.C. 552a(r), as implemented by OMB Circular A-130, the Department of Agriculture sent a report describing the proposed changes to the Chairman, Committee on Governmental Affairs, United States Senate; the Chairman, Committee on Government Reform, United States House of Representatives; and the Administrator, Office of Information and Regulatory Affairs, Office of Management and Budget on November 27, 2002.

Signed at Washington, DC, on November 27, 2002.
Ann M. Veneman,
Secretary of Agriculture.

USDA/FCIC-7

System name:

Accounts Receivable.

Security classification:

None.

System location:

Kansas City Office, Federal Crop Insurance Corporation, Risk Management Agency, 6501 Beacon Drive, Stop 0814, Kansas City, Missouri 64133-4676 and regional and compliance offices for the Federal Crop Insurance Corporation. Addresses of the regional offices may be obtained from the Deputy Administrator, Insurance Services, Risk Management Agency, United States Department of Agriculture, 1400 Independence Avenue, SW., Stop 0805, Room 6709-S, Washington, DC 20250-0803.

Categories of individuals covered by the system:

The system consists of information on any individual or other legal entity that is indebted to the Federal Crop Insurance Corporation (FCIC) or a private insurance company.

Categories of records in the system:

The system consists of standardized records containing identifying information on individuals or other legal entities such as the name of individuals legally responsible for the debt, address, tax identification number (social security number or employer identification number); information relating to debt identification, such as policy number; codes identifying the type of debt and the basis for establishing the debt; date the debt arose; principal debt amount; interest rate and date interest accrues on the debt; information related to changes in debt amount and debt status; and brief remarks that identify or clarify actions being taken by FCIC.

Authority for maintenance of the system:

7 U.S.C. 1501 et seq.

Routine uses of records maintained in the system, including categories of users and the purposes of such uses:

Records contained in this system may be used as follows:

(1) Referral to the appropriate agency, whether Federal, State, local or foreign, charged with the responsibility of investigating or prosecuting a violation of law, or of enforcing or implementing a statute, rule, regulation or order issued pursuant thereto, of any record within this system when information available indicates a violation or potential violation of law, whether civil, criminal, or regulatory in nature, and whether arising by general statute or particular program statute or by rule, regulation or order issued pursuant thereto.

(2) Disclosure to a court, magistrate or administrative tribunal or to opposing counsel in a proceeding before a court, magistrate, or administrative tribunal, of any record within the system which constitutes evidence in that proceeding, or which is sought in the course of discovery, to the extent that FCIC determines that the records sought are relevant to the proceeding.

(3) Disclosures may be made from this system with respect to debts to a credit reporting agency in accordance with 31 U.S.C. 3701, 3711(f), 3720B, 4 CFR 102.3, 4 CFR 3.35 and 7 CFR part 400, subpart K in order to assist in collecting delinquent debts.

(4) Referral of past due legally enforceable debts to the Department of the Treasury, Internal Revenue Service (IRS), to be offset against any tax refund that may become due the debtor for the tax year in which the referral is made in accordance with 31 U.S.C. 3720 A, and 26 CFR 301.6402-6T.

(5) Referral to a collection agency, when FCIC determines such referral is appropriate for collecting the debtor's account in accordance with 31 U.S.C. 3711, 3718; 7 CFR part 400, subpart K; 7 CFR 3.36.

(6) Disclosure may be made to a congressional office from the record of an individual in response to any inquiry from the congressional office made at the request of that individual.

(7) Referral of information regarding indebtedness to the Department of Defense, and the United States Postal Service, for the purpose of conducting computer matching programs to identify and locate individuals receiving Federal salary or benefit payments and who are delinquent in their repayment of debts owed to the U.S. Government under certain programs administered by the FCIC in order to collect debts in accordance with the Debt Collection Act of 1982 (Pub. L. 97-365) by voluntary repayment, administrative or salary offset procedures, or through the use of collection agencies.

(8) Referral of delinquent debts to the Department of Treasury, Financial Management Service, and other Federal agencies for administrative offset of eligible Federal payments and for cross-servicing of debtor accounts in accordance with 31 U.S.C. 3716; 7 CFR part 3, subpart B.

(9) Referral of delinquent debts to the debtor's employer for wage garnishment in accordance with 31 U.S.C. 3720D.

(10) Disclosure may be made to private insurance companies delivering the FCIC program as authorized by the Federal Crop Insurance Act.

(11) Disclosure to contractors or other Federal agencies to conduct research and analysis to identify patterns, trends, anomalies, instances and relationships of private insurance companies, agents, loss adjusters and policyholders that may be indicative of fraud, waste, and abuse.

(12) Disclosure to private insurance companies, contractors, cooperators, partners of FCIC, and other Federal agencies for any purpose relating to the sale, service, administration, analysis of the Federal crop insurance program.

Policies and practices for storing, retrieving, accessing, retaining, and disposing of records in the system:

Storage:

Records are maintained electronically, on computer printouts, microfiche, and in the file folders at the Kansas City Office.

Retrievability:

Records may be indexed and retrieved by name of individual, tax identification number (including social security number), or contract number.

Safeguards:

Records are accessible only to authorized personnel and are maintained in offices that are locked during non-duty hours. File folders and other hard copy records are stored in locked file cabinets. The electronic records are controlled by password protection and the computer network is protected by means of a firewall.

Retention and disposal:

Records are maintained until the indebtedness is paid. Unless shredding is required by Federal regulations, paper records are delivered to custodial services for disposal as waste paper. Electronic records may be erased after the debt is settled and upon the expiration of the records retention period established by the National Archivist.

System manager(s) and address:

Fiscal Operations Branch, Risk Management Agency, Federal Crop Insurance Corporation, 6501 Beacon Drive, Stop 0814, Kansas City, Missouri 64133-4676. Telephone: (816) 926-7033.

Notification procedure:

An individual may request information regarding this system of records or information as to whether the system contains records pertaining to such individual from the Kansas City Office. The request for information should contain the individual's name and address; tax identification number (including social security number); State(s) and county(ties) where such individual farms; and individual crop insurance policy number(s), if known. Before information about any record is released, the System Manager may require the individual to provide proof of identity or require the requester to furnish an authorization from the individual to permit release of information.

Record access procedures:

An individual may obtain information as to the procedures for gaining access to a record in the system, that pertains to such individual, by submitting a written request to the Privacy Act Officer, Risk Management Agency, Program Support Staff, Room 6620-SB, AG Stop 0821, 1400 Independence Avenue, SW., Washington, DC 20250-0821. The envelope and letters should be marked, Privacy Act Request. A request for information should contain: name, address, ZIP code, tax identification number (including social security number), name of the system of records, year of records in question, and any other pertinent information to help identify the file.

Contesting record procedures:

Procedures for contesting records are the same as the procedures for record access. Include the reason for contesting the record and the proposed amendment to the information with supporting documentation to show how the record is inaccurate.

Record source categories:

Information in this system comes primarily from the insurance company, individual debtor or from other Federal agencies.

[FR Doc. 02-30742 Filed 12-5-02; 8:45 am]

BILLING CODE 3410-08-P